DEPARTMENT OF TRANSPORTATION

Federal Motor Carrier Safety Administration

[Docket No. FMCSA-2003-14504]

Qualification of Drivers; Exemption Applications; Vision

AGENCY: Federal Motor Carrier Safety Administration (FMCSA), DOT.

ACTION: Notice of applications for exemption from the vision standard; request for comments.

SUMMARY: This notice publishes the FMCSA's receipt of applications from 29 individuals for an exemption from the vision requirement in the Federal Motor Carrier Safety Regulations. If granted, the exemptions will enable these individuals to qualify as drivers of commercial motor vehicles (CMVs) in interstate commerce without meeting the vision standard prescribed in 49 CFR 391.41(b)(10).

DATES: Comments must be received on or before May 21, 2003.

ADDRESSES: You can mail or deliver comments to the U.S. Department of Transportation, Dockets Management Facility, Room PL-401, 400 Seventh Street, SW., Washington, DC 20590-0001. You can also submit comments at http://dms.dot.gov. Please include the docket number that appears in the heading of this document. You can examine and copy this document and all comments received at the same Internet address or at the Dockets Management Facility from 9 a.m. to 5 p.m., e.t., Monday through Friday, except Federal holidays. If you want us to notify you that we received your comments, please include a self-addressed, stamped envelope or postcard.

Anyone is able to search the electronic form of all comments received into any of our dockets by the name of the individual submitting the comment (or signing the comment, if submitted on behalf of an association, business, labor union, etc.). You may review the Department of Transportation's complete Privacy Act Statement in the Federal Register published on April 11, 2000 (Volume 65, Number 70; Pages 19477-78) or you may visit http://dms.dot.gov.

FOR FURTHER INFORMATION CONTACT: Ms. Sandra Zywokarte, Office of Bus and Truck Standards and Operations, (202) 366-2987, FMCSA, Department of Transportation, 400 Seventh Street, SW., Washington, DC 20590-0001. Office hours are from 7:45 a.m. to 4:15 p.m., e.t., Monday through Friday, except Federal holidays.

SUPPLEMENTARY INFORMATION:

Background

Under 49 U.S.C. 31315 and 31136(e), the FMCSA may grant an exemption for a 2-year period if it finds “such exemption would likely achieve a level of safety that is equivalent to, or greater than, the level that would be achieved absent such exemption.” The statute also allows the agency to renew exemptions at the end of the 2-year period. The 29 individuals listed in this notice have recently requested an exemption from the vision requirement in 49 CFR 391.41(b)(10), which applies to drivers of CMVs in interstate commerce. Accordingly, the agency will evaluate the qualifications of each applicant to determine whether granting the exemption will achieve the required level of safety.

Qualifications of Applicants

1. Michael C. Boyne

Mr. Boyne, 52, has retinopathy of prematurity in his right eye. His best-corrected visual acuity in the right eye is 20/400 and in the left, 20/20. His ophthalmologist examined him in 2002 and stated, “Based upon these findings, this individual has sufficient vision to perform driving tasks required to operate a commercial vehicle.” Mr. Boyne submitted that he has driven tractor-trailer combinations for 9 years, accumulating 1.0 million miles. He holds a Class A commercial driver's license (CDL) from Florida. His driving record for the last 3 years shows one accident and no convictions for moving violations in a CMV. According to the police report, another driver moved into Mr. Boyne's lane, striking his vehicle. The report indicated that the other driver contributed to the accident by “failure to keep in proper lane.” Mr. Boyne was not cited.

2. Clifford D. Carpenter

Mr. Carpenter, 59, lost his right eye due to an injury 17 years ago. His best-corrected visual acuity in the left eye is 20/20. Following an examination in 2002, his optometrist certified, “It is my medical opinion that Mr. Carpenter meets the conditions for consideration for the vision exemption program, and has sufficient vision to perform the driving tasks required to operate a commercial vehicle.” Mr. Carpenter reported that he has driven straight trucks for 41 years, accumulating 717,000 miles, and tractor-trailer combinations for 39 years, accumulating 390,000 miles. He holds a Class A CDL from Missouri. His driving record for the last 3 years shows no accidents or convictions for moving violations in a CMV.

3. Bobby R. Carter, Sr.

Mr. Carter, 55, has had optic nerve atrophy in his left eye since 1998. His best-corrected visual acuity in the right eye is 20/20 and in the left, light perception. Following an examination in 2002, his optometrist certified, “His vision is sufficient for operating a commercial vehicle: distance acuity is clear, peripheral vision is full and adequate for him to see all the mirrors.” Mr. Carter reported that he has driven tractor-trailer combinations for 12 years, accumulating 900,000 miles. He holds a Class CA CDL from Michigan. His driving record shows no accidents or convictions for moving violations in a CMV during the last 3 years.

4. Darryl D. Cassatt

Mr. Cassatt, 46, has a congenital cataract in his right eye. His best-corrected visual acuity is 20/400 in the right eye and 20/20 in the left. Following an examination in 2002, his optometrist certified, “In my expert medical opinion, I feel Darryl Cassatt has sufficient vision to operate a commercial vehicle.” Mr. Cassatt submitted that he has driven straight trucks for 3 years, accumulating 234,000 miles, and tractor-trailer combinations for 4 years, accumulating 468,000 miles. He holds a Class AM CDL from Iowa. His driving record shows no accidents or convictions for moving violations in a CMV during the last 3 years.

5. Timothy H. Dubois

Mr. Dubois, 41, has amblyopia in his left eye. His best-corrected visual acuity in the right eye is 20/20 and in the left, 20/300. Following an examination in 2002, his optometrist certified, “In my medical opinion, I believe that Tim Dubois has sufficient vision required to operate a commercial vehicle.” Mr. Dubois reported that he has driven straight trucks for 11 years, accumulating 440,000 miles, and tractor-trailer combinations for 11 years, accumulating 55,000 miles. He holds a Class A CDL from Minnesota. His driving record shows no accidents or convictions for moving violations in a CMV during the last 3 years.

6. Robert E. Ezell, Jr.

Mr. Ezell, 43, has amblyopia in his left eye. His best-corrected visual acuity is 20/20 in the right eye and 20/90 in the left. Following an examination in 2002, his optometrist certified, “Mr. Ezell has had this condition (amblyopia) since he was a child, and it is my medical opinion that he has sufficient vision to perform the driving tasks required to operate a commercial vehicle.” Mr. Ezell reported that he has driven straight trucks for 15 years, accumulating 45,000 miles, and tractor-trailer combinations for 6 years, accumulating 750,000 miles. He holds a driver's license from the State of Washington. His driving record shows one accident and no convictions for moving violations in a CMV. According to the police report, Mr. Ezell's vehicle struck an unoccupied vehicle that rolled out of a parking lot into his travel lane. The owner was cited for “no proof of insurance.” Mr. Ezell was not cited.

7. Orasio Garcia

Mr. Garcia, 46, has amblyopia in his left eye. The visual acuity in his right eye is 20/20 and in the left, hand motions. Following an examination in 2002, his ophthalmologist certified, “I am not familiar with the criteria of vision requirements of a commercial vehicle driver, but he has been doing this line of work all his life with stable ophthalmologic condition, and I feel reasonably certain that Mr. Garcia should be able to continue commercial operation as he has done in the past.” Mr. Garcia submitted that he has driven straight trucks for 5 years, accumulating 20,000 miles, and tractor-trailer combinations for 3 years, accumulating 300,000 miles. He holds a Class A CDL from Texas. His driving record for the last 3 years shows one accident and no convictions for moving violations in a CMV. According to the police report, another driver failed to yield at a stop sign, striking Mr. Garcia's vehicle. The other driver was cited for “failure to yield right of way at stop sign.” Mr. Garcia was not cited.

8. Reginal Gillis

Mr. Gillis, 39, has amblyopia in his right eye. His best-corrected visual acuity in the right eye is 20/100 and in the left, 20/20. His ophthalmologist examined him in 2002 and stated, “There is no evidence with your current eye condition that will prevent you from operating any type of commercial motor vehicle.” Mr. Gillis submitted that he has driven straight trucks for 15 years, accumulating 7,000 miles. He holds a Class B CDL from Florida. His driving record for the last 3 years shows no accidents or convictions for moving violations in a CMV.

9. Raymond D. Gromley

Mr. Gromley, 58, lost the vision in his left eye due to trauma in 1992. His best-corrected visual acuity in the right eye is 20/20. Following an examination in 2002, his ophthalmologist stated, “In my opinion, Raymond's vision in his remaining eye is satisfactory for him to perform driving tasks required to operate a commercial vehicle.” Mr. Gromley submitted that he has driven straight trucks for 42 years, accumulating 420,000 miles, and tractor-trailer combinations for 16 years, accumulating 560,000 miles. He holds a Class A CDL from Ohio. His driving record for the last 3 years shows no accidents and one conviction for a moving violation—speeding—in a CMV. He exceeded the speed limit by 11 mph.

10. Dennis K. Harris

Mr. Harris, 41, lost his right eye due to an accident in 1982. The visual acuity in his left eye is 20/15. An ophthalmologist examined him in 2002 and stated, “He appears well-adapted to being one-eyed. He has a totally normal left eye with excellent vision without any correction, and he should be able to drive using this eye. Specifically, he should be able to drive a commercial vehicle for the tasks required of him by his employer.” Mr. Harris submitted that he has driven straight trucks for 17 years, accumulating 527,000 miles. He holds a Class CM driver's license from Georgia. His driving record shows no accidents or convictions for moving violations in a CMV during the last 3 years.

11. Donald E. Howell

Mr. Howell, 61, has count fingers vision in his left eye due to toxoplasmosis chorioretinitis in 1975. His best-corrected visual acuity in the right eye is 20/20. Following an examination in 2002, his ophthalmologist stated, “In my opinion, you have more than enough vision to perform all driving tasks required of a commercial driver in a large commercial vehicle.” Mr. Howell reported that he has driven straight trucks for 40 years, accumulating 80,000 miles, and tractor-trailer combinations for 38 years, accumulating 3.0 million miles. He holds a Class A CDL from Pennsylvania. His driving record shows no accidents or convictions for moving violations in a CMV during the last 3 years.

12. Tommy T. Hudson

Mr. Hudson, 49, has a retinal scar in his right eye due to histoplasmosis. The visual acuity in his right eye is light perception and in the left, 20/20. His optometrist examined him in 2002 and certified, “In my opinion, I believe the patient has sufficient vision in both eyes to operate a commercial vehicle.” Mr. Hudson reported that he has driven tractor-trailer combinations for 30 years, accumulating 2.3 million miles. He holds a Class AM CDL from Virginia. His driving record for the last 3 years shows no accidents or convictions for moving violations in a CMV.

13. William D. Johnson

Mr. Johnson, 53, has amblyopia in his left eye. His best-corrected visual acuity in the right eye is 20/20 and in the left, 20/400. An optometrist examined him in 2002 and stated, “In my professional opinion, Mr. Johnson has sufficient vision to perform driving tasks that he has performed for the past 35 years. Anyone that has an amblyopic eye since birth has learned to compensate for their deficiency, and is very capable of continuing driving until he starts to have a decrease in visual acuity in his right eye.” Mr. Johnson submitted that he has driven tractor-trailer combinations for 35 years, accumulating 1.9 million miles. He holds a Class A CDL from Oklahoma. His driving record for the last 3 years shows no accidents or convictions for moving violations in a CMV.

14. Raymond T. Jones, Jr.

Mr. Jones, 46, has a macular scar in his right eye due to an injury at the age of 13. His best-corrected visual acuity is 20/70 in the right eye and 20/20 in the left. Following an examination in 2002, his ophthalmologist certified, “Mr. Jones has sufficient vision to perform the driving tasks required to operate a commercial vehicle.” Mr. Jones reported that he has driven tractor-trailer combinations for 21 years, accumulating 1.9 million miles. He holds a Class A CDL from North Carolina. His driving record shows one accident and no convictions for moving violations in a CMV. According to the police report, Mr. Jones collided with a vehicle that swerved into his lane after being sideswiped by a hit and run driver. The report indicated that the driver of the hit and run vehicle was not known, and none of the drivers was charged.

15. Edward J. Kasper

Mr. Kasper, 66, has reduced vision in his left eye due to an accident 60 years ago. His best-corrected visual acuity in the right eye is 20/20 and in the left, 20/200. An ophthalmologist examined him in 2002 and certified, “The patient has more than sufficient vision to perform the tasks required to operate a commercial vehicle.” Mr. Kasper reported that he has driven buses for 5 years, accumulating 225,000 miles. He holds a Class B CDL from Delaware. His driving record for the last 3 years shows no accidents and one conviction for a moving violation—speeding—in a CMV. He exceeded the speed limit by 10 mph.

16. Jimme D. Kline

Mr. Kline, 44, has amblyopia in his left eye. The visual acuity in his right eye is 20/20 and in the left, 20/400. An ophthalmologist examined him in 2002 and stated, “Jimme Kline's uncorrected vision is sufficient for driving commercial vehicles.” Mr. Kline submitted that he has driven straight trucks for 25 years, accumulating 625,000 miles, and tractor-trailer combinations for 4 years, accumulating 400,000 miles. He holds a Class A CDL from Texas. His driving record for the last 3 years shows no accidents or convictions for moving violations in a CMV.

17. Phillip L. Mangen

Mr. Mangen, 37, has amblyopia in his left eye. His best-corrected visual acuity is 20/15 in the right eye and 20/60 in the left. An optometrist examined him in 2002 and stated, “I feel Phillip Mangen has sufficient vision to perform the driving tasks required to operate a commercial vehicle.” Mr. Mangen submitted that he has driven tractor-trailer combinations for 15 years, accumulating 1.5 million miles. He holds a Class A CDL from Ohio. His driving record for the last 3 years shows no accidents or convictions for moving violations in a CMV.

18. Paul V. Mattingly

Mr. Mattingly, 47, has amblyopia in his right eye. His best-corrected visual acuity in the right eye is 20/200 and in the left, 20/15. His optometrist examined him in 2002 and stated, “Mr. Mattingly has sufficient visual performance to operate a commercial vehicle.” Mr. Mattingly reported that he has driven straight trucks for 27 years, accumulating 891,000 miles. He holds a Class B driver's license from Illinois. His driving record shows no accidents or convictions for moving violations in a CMV during the last 3 years.

19. Steven M. Montalbo

Mr. Montalbo, 45, lost his left eye due to injury 36 years ago. His best-corrected visual acuity in the right eye is 20/15. Following an examination in 2002, his optometrist certified, “Based upon these findings, we feel that the patient has sufficient vision to perform the driving tasks required to operate a commercial vehicle.” Mr. Montalbo submitted that he has driven straight trucks for 7 years, accumulating 698,000 miles, and tractor-trailer combinations for 25 years, accumulating 624,000 miles. He holds a Class A CDL from California. His driving record for the last 3 years shows no accidents or convictions for moving violations in a CMV.

20. Bernard E. Roche

Mr. Roche, 65, has had scarring of the retina in his right eye due to injury since 1995. His corrected visual acuity is 20/20 in the right eye and 20/100 in the left. Following an examination in 2002, his optometrist commented, “In my opinion, Mr. Roche has sufficient vision to perform the driving tasks required to operate a commercial vehicle.” Mr. Roche submitted that he has driven straight trucks for 42 years, accumulating 840,000 miles. He holds a Class A CDL from Virginia. His driving record for the last 3 years shows no accidents or convictions for moving violations in a CMV.

21. Charles J. Rowsey

Mr. Rowsey, 39, lost his right eye due to injury 18 years ago. The visual acuity in his left eye is 20/15. Following an examination in 2002, his optometrist certified, “In my professional opinion, Charles Rowsey has sufficient vision to perform the driving tasks required to operate a commercial vehicle.” Mr. Rowsey reported that he has driven tractor-trailer combinations for 16 years, accumulating 1.0 million miles. He holds a Class A CDL from North Carolina. His driving record shows no accidents or convictions for moving violations in a CMV during the last 3 years.

22. Vincent Rubino

Mr. Rubino, 33, has amblyopia in his right eye. His best-corrected visual acuity is counting fingers in the right eye and 20/20 in the left. His ophthalmologist examined him in 2002 and stated, “Based on my exam and Mr. Rubino's past history, I feel he has sufficient vision to perform the tasks required to operate a commercial vehicle.” Mr. Rubino reported that he has driven straight trucks for 4 years, accumulating 200,000 miles, and tractor-trailer combinations for 10 years, accumulating 550,000 miles. He holds a Class A CDL from New Jersey. His driving record shows no accidents or convictions for moving violations in a CMV during the last 3 years.

23. Randy G. Spilman

Mr. Spilman, 47, has amblyopia in his right eye. His best-corrected visual acuity is 20/50 in the right eye and 20/20 in the left. His optometrist examined him in 2002 and stated, “It is my medical opinion that Mr. Spilman's vision is sufficient to perform the driving tasks required to operate a commercial vehicle.” Mr. Spilman submitted that he has driven tractor-trailer combinations for 16 years, accumulating 1.9 million miles. He holds a Class A CDL from Ohio. His driving record for the last 3 years shows no accidents or convictions for moving violations in a CMV.

24. Wyatt W. Thayer, Jr.

Mr. Thayer, 63, has had open angle glaucoma and iritis in his right eye since 1997. His best-corrected visual acuity is 20/40-2 in the right eye and 20/20 in the left. His optometrist examined him in 2002 and stated, “In my medical opinion, Mr. Thayer has more than sufficient vision to perform the driving tasks of a commercial vehicle.” Mr. Thayer reported that he has driven tractor-trailer combinations for 16 years, accumulating 974,000 miles. He holds a Class A CDL from North Carolina. His driving record for the last 3 years shows no accidents or convictions for moving violations in a CMV.

25. Thomas S. Thompson

Mr. Thompson, 61, is blind in his left eye due to trauma in 1974. His best-corrected visual acuity in the right eye is 20/20. His optometrist examined him in 2002 and certified, “It is my opinion that this individual has sufficient vision to perform the driving tasks of operating a commercial vehicle as he has done previously for the past 25 years without incident.” Mr. Thompson submitted that he has driven tractor-trailer combinations for 28 years, accumulating 2.1 million miles. Mr. Thompson holds a Class A CDL from Nebraska. His driving record shows no accidents or convictions for moving violations in a CMV during the last 3 years.

26. Robert A. Wegner

Mr. Wegner, 38, has amblyopia in his left eye. His best-corrected visual acuity in the right eye is 20/20 and in the left, 20/200. Following an examination in 2002, his optometrist certified, “The condition of amblyopia is one that Robert has compensated for his entire life and, in my opinion, will not impair his ability to safely operate any motor vehicle.” Mr. Wegner submitted that he has driven tractor-trailer combinations for 7 years, accumulating 390,000 miles. He holds a Class A CDL from Minnesota. His driving record for the last 3 years shows no accidents and one conviction for a moving violation in a CMV. Mr. Wegner failed to obey a stop sign.

27. John E. Wertz

Mr. Wertz, 48, has amblyopia in his right eye. His best-corrected visual acuity in the right eye is 20/60 and in the left, 20/20. His optometrist examined him in 2002 and certified, “In my medical opinion, I feel John is capable of performing the driving tasks necessary to operate a commercial vehicle.” Mr. Wertz reported that he has driven tractor-trailer combinations for 14 years, accumulating 1.7 million miles. He holds a Class A CDL from Pennsylvania. His driving record shows no accidents or convictions for moving violations in a CMV during the last 3 years.

28. John W. Williams

Mr. Williams, 56, lost his left eye due to trauma in childhood. The visual acuity in his right eye is 20/20. An optometrist examined him in 2002 and certified, “His visual capacity should be sufficient to perform commercial vehicle operation.” Mr. Williams reported that he has driven straight trucks for 20 years, accumulating 322,000 miles, and tractor-trailer combinations for 12 years, accumulating 1.2 million miles. He holds a Class AM CDL from Illinois. His driving record for the last 3 years shows no accidents or convictions for moving violations in a CMV.

29. Christopher D. Yates

Mr. Yates, 31, has amblyopia in his left eye. His best-corrected visual acuity is 20/20 in the right eye and 20/60 in the left. Following an examination in 2002, his optometrist certified, “Chris has sufficient vision to operate a commercial vehicle safely.” Mr. Yates reported that he has driven straight trucks for 3 years, accumulating 60,000 miles. He holds a Class DC operator's license/CDL from Kentucky. His driving record shows no accidents and one conviction for a moving violation—“disregarding a stop sign”—in a CMV during the last 3 years.

Request for Comments

In accordance with 49 U.S.C. 31315 and 31136(e), the FMCSA requests public comment from all interested persons on the exemption applications described in this notice. We will consider all comments received before the close of business on the closing date indicated earlier in the notice.

Issued on: April 15, 2003.
Pamela Pelcouits,
Acting Associate Administrator, Policy, Plans and Regulation.

[FR Doc. 03-9731 Filed 4-18-03; 8:45 am]

BILLING CODE 4910-EX-P